DEPARTMENT OF ENERGY

Federal Energy Regulatory Commission

[Docket No. PF06-10-000]

Cameron LNG L.L.C.; Notice of Intent to Prepare an Environmental Assessment for the Proposed Terminal Expansion Project and Request for Comments on Environmental Issues

February 3, 2006.

The staff of the Federal Energy Regulatory Commission (FERC or Commission) will prepare an environmental assessment (EA) that will discuss the environmental impacts of Cameron LNG L.L.C.'s (Cameron) proposed Terminal Expansion Project involving construction and operation of facilities in Cameron Parish, Louisiana. This EA will be used by the Commission in its decision-making process to determine whether to authorize the project.

This notice announces the opening of the scoping process that the Commission will use to gather environmental input from the public and interested agencies on the Terminal Expansion Project. Your input will help determine which issues need to be evaluated in the EA. Please note that the scoping period will close on March 6, 2006. Details on how to submit comments are provided in the Public Participation section of this notice.

This notice is being sent to affected landowners; federal, state, and local government agencies; elected officials; environmental and public interest groups; Native American tribes; other interested parties; and local libraries and newspapers. State and local government representatives are asked to notify their constituents of this planned project and encourage them to comment on their areas of concern.

With this notice, we ¹ are asking other federal, state, local, and tribal agencies with jurisdiction and/or special expertise with respect to environmental issues to cooperate with us in the preparation of the EA. Agencies that would like to request cooperating status should follow the instructions for filing comments provided below.

¹ “We,” “us,” and “our” refer to the environmental staff of the Office of Energy Projects.

A fact sheet prepared by the FERC entitled “A Guide to LNG—What All Citizens Should Know.” is available for viewing on the FERC Internet Web site (http://www.ferc.gov). This fact sheet addresses a number of typically asked questions, including what is LNG and how is it transported.

Summary of the Proposed Project

Cameron proposes to expand its previously authorized Hackberry LNG Project in Cameron Parish, Louisiana (see map in Appendix A ²). The expansion would consist of adding one LNG storage tank with a net working capacity of 160,000 cubic meters.

² The appendix referenced in this notice is not being printed in the Federal Register. Copies are available from the Commission's Public Reference and Files Maintenance Branch, at (202) 502-8371. For instructions on connecting to eLibrary refer to the public participation section of this notice.

Specifically, Cameron seeks authority to construct and operate the following facilities:

• Two 16-inch-diameter unloading arms;

• One full-containment LNG storage tank with a net working capacity of 160,000 cubic meters;

• Two vapor return blowers;

• One boil off gas compressor;

• Six LNG send out pumps;

• One fuel gas heat exchanger;

• One air compressor, instrument air drier, and air surge vessel;

• Temporary dock facilities;

• Eight submerged combustion vaporizers; and

• Two shell-and-tube superheaters.

Land Requirements

It is estimated that the construction of the Terminal Expansion Project would disturb about 15 acres of land. This land is already leased by Cameron and adjacent to the proposed Hackberry LNG Terminal.

The EA Process

The FERC will be the lead federal agency for the preparation of the EA. The document will satisfy the requirements of the National Environmental Policy Act (NEPA). Cameron's Terminal Expansion Project is in the preliminary design state.

For this project, the FERC staff has initiated its NEPA review prior to receiving the application. The purpose of the Commission's Pre-Filing Process is to involve interested stakeholders early in project planning and to identify and resolve issues before an application is filed with the FERC. A docket number (PF06-10-000) has been established to place information filed by Cameron, and related documents issued by the Commission, into the public record. Once a formal application is filed with the FERC, a new docket number will be established.

NEPA requires the Commission to take into account the environmental impacts that could result from an action whenever it considers the authorization of an LNG facility. NEPA also requires us to discover and address concerns the public may have about proposals. This process is referred to as “scoping.” The main goal of the scoping process is to focus the analysis in the EA on the important environmental issues. By this Notice of Intent, we are requesting public comments on the scope of the issues that should be addressed in the EA. We will consider all comments received during scoping in the preparation of the EA.

Our independent analysis of the issues will be in the EA. Depending on the comments received during the scoping process, the EA may be published and mailed to federal, state, and local agencies; elected officials; environmental and public interest groups; affected landowners; Native American tribes; libraries and newspapers; the Commission's official service list for this proceeding; and other interested parties. A comment period will be allotted for review if the EA is published. We will consider all comments on the EA before we make our recommendations to the Commission.

To ensure your comments are considered, please carefully follow the instructions in the public participation section.

Public Participation

You can make a difference by providing us with your specific comments or concerns about the proposal. By becoming a commentor, your concerns will be addressed in the EA and considered by the Commission. You should focus on the potential environmental effects of the proposal, alternatives to the proposal (including alternative locations), and measures to avoid or lessen environmental impact. The more specific your comments, the more useful they will be. Please carefully follow these instructions to ensure that your comments are received in time and properly recorded:

• Send an original and two copies of your letter to: Magalie R. Salas, Secretary, Federal Energy Regulatory Commission, 888 First St. NE., Room 1A, Washington, DC 20426;

• Label one copy of the comments for the attention of the Gas Branch 1, DG2E; and

• Reference Docket No. PF06-10-000 on the original and both copies.

• Mail your comments so that they will be received in Washington, DC on or before March 6, 2006.

The Commission encourages electronic filing of comments. See Title 18 Code of Federal Regulations (CFR) 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a “Comment on Filing.”

When Cameron submits its application for authorization to construct and operate the Terminal Expansion Project, the Commission will publish a Notice of Application in the Federal Register and will establish a deadline for interested persons to intervene in the proceeding. Because the Commission's Pre-Filing Process occurs before an application to begin a proceeding is officially filed, petitions to intervene during this process are premature and will not be accepted by the Commission.

Availability of Additional Information

Additional information about the project is available from the Commission's Office of External Affairs at 1-866-208 FERC or on the FERC Internet Web site (http://www.ferc.gov) using the “eLibrary” link. Click on the eLibrary link, click on “General Search,” and enter the docket number excluding the last three digits in the Docket Number field (i.e., PF06-10). Be sure you have selected an appropriate date range. For assistance, please contact FERC Online Support at FERCOnlineSupport@ferc.gov or toll free at 1-866-208-3676, or for TTY, contact (202) 502-8659. The eLibrary link also provides access to the texts of formal documents issued by the Commission, such as orders, notices, and rule makings.

In addition, the FERC now offers a free service called eSubscription which allows you to keep track of all formal issuances and submittals in specific dockets. This can reduce the amount of time you spend researching proceedings by automatically providing you with notification of these filings, document summaries, and direct links to the documents. To register for this service, go to http://www.ferc.gov/esubscribenow.htm.

Magalie R. Salas,
Secretary.

[FR Doc. E6-1855 Filed 2-9-06; 8:45 am]

BILLING CODE 6717-01-P